DEPARTMENT OF HOUSING AND URBAN DEVELOPMENT

[FR-7047-N-01]

60-Day Notice of Proposed Information Collection: Secretary Invite Form

AGENCY: Office of the Secretary, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: January 31, 2022.

ADDRESSES: Interested persons are invited to submit comments regarding this proposal. Comments should refer to the proposal by name and/or OMB Control Number and should be sent to: Anna Guido, Management Analyst, Department of Housing and Urban Development, 451 7th Street SW, Room 4176, Washington, DC 20410-5000; telephone 202-402-5535 (this is not a toll-free number) or email at Anna.P.Guido@hud.gov for a copy of the proposed forms or other available information.

FOR FURTHER INFORMATION CONTACT: Patrice Taylor Department of Housing and Urban Development, 451 7th Street SW, 10218, Washington, DC 20410; telephone 202-402-6104, (this is not a toll-free number). Copies of available documents submitted to OMB may be obtained from Anna Guido.

SUPPLEMENTARY INFORMATION: This notice informs the public that HUD is seeking approval from OMB for the information collection described in Section A.

A. Overview of Information Collection

Title of Information Collection: Secretary Invite Form.

OMB Approval Number: Pending.

Type of Request: Meeting Request.

Form Number: FR-7047-N-01 (2501-XXX).

Description of the Need for the Information and Proposed Use: Meeting request details used to schedule time with HUD's Secretary and other leadership.

Estimated Number of Respondents: 20 to 30 per month.

Estimated Number of Responses: 20 to 30 per month.

Frequency of Response: 20 to 30 per month.

Average Hours per Response: .25 hours.

Total Estimated Burdens: 60-90 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Patrice Taylor,
Deputy Chief of Staff, Office of the Secretary.

[FR Doc. 2021-26166 Filed 12-1-21; 8:45 am]

BILLING CODE 4210-67-P